Title 3—

The President

Proclamation 7404 of February 1, 2001

National African American History Month, 2001

By the President of the United States of America

A Proclamation

In 1915, Carter Godwin Woodson, the father of Black history, founded the Association for the Study of African-American Life and History. Each February, the Association proposes a theme to guide the celebration of National African American History Month. For this year, the Association has chosen “Creating and Defining the African-American Community: Family, Church, Politics, and Culture.”

This month in particular, we remember the stories of those who have helped to build our Nation and advance the cause of freedom and civil rights. We remember the bravery of the soldiers of the 54th Massachusetts Infantry Regiment and the sailors of the USS MASON in service to our country. We remember those who marched on Washington, sat at whites-only lunch counters, and walked rather than use segregated buses. And we remember those, known only to each of us, who helped to build our families, places of worship, and communities.

When we examine our Nation's history, we discover these and countless other stories that inspire us. They are stories of the triumph of the human spirit, tragic stories of cruelty rooted in ignorance and bigotry, yet stories of everyday people rising above their circumstances and the prejudice of others to build lives of dignity.

This month, and throughout the year, let us celebrate and remember these stories, which reflect the history of African Americans and all Americans. We can all enjoy the works of writers like Paul Laurence Dunbar, James Weldon Johnson, Zora Neale Hurston, and Langston Hughes. In our Nation's schools, our children can learn to admire Booker T. Washington, Sojourner Truth, Frederick Douglass, and others. And Americans from all backgrounds can be ennobled by the examples of Thurgood Marshall, Roy Wilkins, Whitney Young, Mary Church Terrell, and other civil rights leaders.

As we celebrate African American History Month, let us commit ourselves to raising awareness and appreciation of African American history. Let us teach our children, and all Americans, to rise above brutality and bigotry and to be champions of liberty, human dignity, and equality. And let us rededicate ourselves to affirming the promise of our Constitution.

NOW, THEREFORE, I, GEORGE W. BUSH, President of the United States of America, by virtue of the authority vested in me by the Constitution and laws of the United States, do hereby proclaim February 2001 as National African American History Month. I call upon public officials, educators, librarians, and all of the people of the United States to observe this month with appropriate ceremonies, activities, and programs.

IN WITNESS WHEREOF, I have hereunto set my hand this first day of February, in the year of our Lord two thousand one, and of the Independence of the United States of America the two hundred and twenty-fifth.

B

[FR Doc. 01-3163

Filed 2-2-01; 12:16 pm]

Billing code 3195-01-P